DEPARTMENT OF LABOR

Employment and Training Administration

[TA-W-41,391 and TA-W-41,391A]

Victor Forstmann, Inc., Dublin, GA; and Victor Forstmann, Inc., New York, NY; Amended Certification Regarding Eligibility To Apply for Worker Adjustment Assistance

In accordance with section 223 of the Trade Act of 1974 (19 U.S.C. 2273) the Department of Labor issued a Notice of Certification Regarding Eligibility to Apply for Worker Adjustment Assistance on July 1, 2002, applicable to workers of Victor Forstmann, Inc, Dublin, Georgia. The notice was published in the Federal Register on July 18, 2002 (67 FR 47400).

At the request of the petitioners, the Department reviewed the certification for workers of the subject firm. The workers are engaged in the production of woolen and worsted fabrics.

The company reports that worker separations occurred at the New York, New York location of the subject firm. The New York, New York workers provide sales, designing and marketing function services for the subject firm's production facility in Dublin, Georgia.

Based on these findings, the Department is amending the certification to include workers of Victor Forstmann, Inc., New York, New York.

The intent of the Department's certification is to include all workers of Victor Forstmann, Inc. who were adversely affected by increased imports.

The amended notice applicable to TA-W-41,391 is hereby issued as follows:

All workers of Victor Forstmann, Inc., Dublin Georgia (TA-W-41,391) and Victor Forstmann, Inc., New York, New York (TA-W-41,391A) who became totally or partially separated from employment on or after March 22, 2001, through July 1, 2004, are eligible to apply for adjustment assistance under section 223 of the Trade Act of 1974.

Signed at Washington, DC, this 17th day of March, 2003.
Linda G. Poole,
Certifying Officer, Division of Trade Adjustment Assistance.

[FR Doc. 03-8912 Filed 4-10-03; 8:45 am]

BILLING CODE 4510-30-P